DEPARTMENT OF TRANSPORTATION

Federal Aviation Administration

14 CFR Part 39

[Docket No. FAA-2024-2667; Project Identifier MCAI-2024-00473-T; Amendment 39-23092; AD 2025-15-05]

RIN 2120-AA64

Airworthiness Directives; Deutsche Aircraft GmbH (Type Certificate Previously Held by 328 Support Services GmbH; AvCraft Aerospace GmbH; Fairchild Dornier GmbH; Dornier Luftfahrt GmbH) Airplanes

AGENCY: Federal Aviation Administration (FAA), DOT.

ACTION: Final rule.

SUMMARY: The FAA is superseding Airworthiness Directive (AD) 2024-03-07, which applied to all Deutsche Aircraft GmbH Model 328-100 and 328-300 airplanes. AD 2024-03-07 required a one-time detailed inspection of each affected part, and applicable corrective actions. Since the FAA issued AD 2024-03-07, the FAA determined that repetitive inspections are necessary. This AD continues to require the actions in AD 2024-03-07 and requires repetitive inspections of the affected part. The FAA is issuing this AD to address the unsafe condition on these products.

DATES: This AD is effective September 3, 2025.

The Director of the Federal Register approved the incorporation by reference of a certain publication listed in this AD as of September 3, 2025.

ADDRESSES:

AD Docket: You may examine the AD docket at regulations.gov under Docket No. FAA-2024-2667; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building, Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2667.

FOR FURTHER INFORMATION CONTACT: Joe Salameh, Aviation Safety Engineer, FAA, 1600 Stewart Avenue, Suite 410, Westbury, NY 11590; telephone 206-231-3536; email joe.salameh@faa.gov.

SUPPLEMENTARY INFORMATION:

Background

The FAA issued a notice of proposed rulemaking (NPRM) to amend 14 CFR part 39 to supersede AD 2024-03-07, Amendment 39-22677 (89 FR 17723, March 12, 2024) (AD 2024-03-07). AD 2024-03-07 applied to all Deutsche Aircraft GmbH Model 328-100 and 328-300 airplanes. AD 2024-03-07 required a one-time detailed inspection of each affected part, and applicable corrective actions. The FAA issued AD 2024-03-07 to address operator reports of worn and ruptured bonding straps inside the feeder wing tanks and in both outer and inner wing tanks.

The NPRM was published in the Federal Register on December 23, 2024 (89 FR 104459). The NPRM was prompted by AD 2024-0154, dated August 2, 2024 (EASA AD 2024-0154) (also referred to as the MCAI), issued by EASA, which is the Technical Agent for the Member States of the European Union. The MCAI states that occurrences were reported of finding damaged affected parts (i.e., worn and ruptured bonding straps). The extent of the detected damage of the affected parts did not ensure that appropriately low electrical impedance is obtained and maintained through the affected bonding path. This condition, if not detected and corrected, could lead to loss of bonding function and, in combination with a lightning strike, create a source of ignition in a fuel tank, possibly resulting in a fire or explosion and consequent loss of the airplane.

In the NPRM, the FAA proposed to continue to require the actions in AD 2024-03-07 and to require repetitive inspections of the affected parts, as specified in EASA AD 2024-0154. The FAA is issuing this AD to address the unsafe condition on these products.

You may examine the MCAI in the AD docket at regulations.gov under Docket No. FAA-2024-2667.

Discussion of Final Airworthiness Directive

Comments

The FAA received no comments on the NPRM or on the determination of the cost to the public.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0154, which specifies procedures for repetitive detailed inspections for damage of the bonding straps located inside the feeder wing tank (left-hand (LH) and right-hand (RH) sides), outer and inner wing tanks (LH and RH sides), and replacement or repair of damaged affected parts. EASA AD 2024-0154 also specifies procedures for an optional modification to replace all the existing bonding straps with parts of the same cross-section and length but with nickel-plated surface protection. The optional modification still includes detailed inspections for damage of the bonding straps as required by EASA AD 2024-0154, but allows for the termination of repetitive inspections. This material is reasonably available because the interested parties have access to it through their normal course of business or by the means identified in the ADDRESSES section.

Costs of Compliance

The FAA estimates that this AD affects 23 airplanes of U.S. registry. The FAA estimates the following costs to comply with this AD:

Estimated Costs for Required Actions
Labor cost | Parts cost | Cost per product | Cost on U.S. operators
44 work-hours × $85 per hour = $3,740 | $0 | $3,740 | $86,020

Estimated Costs for Optional Actions
Labor cost | Parts cost | Cost per product
56 work-hours × $85 per hour = $4,760 | $1,500 | $6,260

The FAA estimates the following costs to do any necessary on-condition action that would be required based on the results of any required or optional actions. The FAA has no way of determining the number of aircraft that might need this on-condition action:

Estimated Costs of On-Condition Replacement
Labor cost | Parts cost | Cost per product
10 work-hours × $85 per hour = $850 | $117 | $967

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2024-03-07, Amendment 39-22677 (89 FR 17723, March 12, 2024); and

b. Adding the following new AD:

2025-15-05 Deutsche Aircraft GmbH (Type Certificate Previously Held by 328 Support Services GmbH; AvCraft Aerospace GmbH; Fairchild Dornier GmbH; Dornier Luftfahrt GmbH): Amendment 39-23092; Docket No. FAA-2024-2667; Project Identifier MCAI-2024-00473-T.

(a) Effective Date

This airworthiness directive (AD) is effective September 3, 2025.

(b) Affected ADs

This AD replaces AD 2024-03-07, Amendment 39-22677 (89 FR 17723, March 12, 2024) (AD 2024-03-07).

(c) Applicability

This AD applies to all Deutsche Aircraft GmbH (Type Certificate Previously Held by 328 Support Services GmbH; AvCraft Aerospace GmbH; Fairchild Dornier GmbH; Dornier Luftfahrt GmbH) Model 328-100 and 328-300 airplanes, certificated in any category.

(d) Subject

Air Transport Association (ATA) of America Code 28, Fuel.

(e) Unsafe Condition

This AD was prompted by operator reports of worn and ruptured bonding straps inside the feeder wing tanks and in both outer and inner wing tanks. The FAA is issuing this AD to address damaged bonding straps. The unsafe condition, if not addressed, could result in the loss of bonding function and, in combination with a lightning strike, create a source of ignition in a fuel tank, possibly resulting in a fire or explosion and consequent loss of the airplane.

(f) Compliance

Comply with this AD within the compliance times specified, unless already done.

(g) Requirements

Except as specified in paragraph (h) of this AD: Comply with all required actions and compliance times specified in, and in accordance with, European Union Aviation Safety Agency (EASA) AD 2024-0154, dated August 2, 2024 (EASA AD 2024-0154).

(h) Exceptions to EASA AD 2024-0154

(1) Where EASA AD 2024-0154 refers to July 26, 2023 (the effective date of EASA AD 2023-0137), this AD requires using April 16, 2024 (the effective date of AD 2024-03-07).

(2) Where EASA AD 2024-0154 refers to its effective date, this AD requires using the effective date of this AD.

(3) This AD does not adopt the “Remarks” section of EASA AD 2024-0154.

(4) Where paragraph (3) of EASA AD 2024-0154 specifies if “any damage is detected as defined in the inspection ASB,” this AD requires replacing those words with “any worn or ruptured bonding strap is detected.”

(5) Where paragraph (4) of EASA AD 2024-0154 specifies “Modification of an aeroplane in accordance with the instructions of the modification SB”, this AD requires replacing those words with “Accomplishing a modification, including doing detailed inspections, of an airplane in accordance with the instructions of the modification SB, and doing corrective actions if any worn or ruptured bonding strap is detected as specified in paragraph (3)”.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Deutsche Aircraft GmbH's EASA Design Organization Approval (DOA). If approved by the DOA, the approval must include the DOA-authorized signature.

(j) Additional Information

For more information about this AD, contact Joe Salameh, Aviation Safety Engineer, FAA, 1600 Stewart Avenue, Suite 410, Westbury, NY 11590; telephone 206-231-3536; email joe.salameh@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0154, dated August 2, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on July 23, 2025.
Christopher R. Parker,
Acting Deputy Director, Compliance & Airworthiness Division, Aircraft Certification Service.

[FR Doc. 2025-14439 Filed 7-29-25; 8:45 am]

BILLING CODE 4910-13-P